FEDERAL ELECTION COMMISSION

Sunshine Act Meetings

AGENCY: Federal Election Commission

DATE AND TIME: Wednesday, January 25, 2017 at 11:00 a.m.

PLACE: 999 E Street NW., Washington, DC (Ninth Floor).

STATUS: This meeting was open to the public.

FEDERAL REGISTER NOTICE OF PREVIOUS ANNOUNCEMENT: 82 FR 7831.

THE FOLLOWING ITEM WAS ALSO DISCUSSED: Approval of Payment for Travel Expenses.

PERSON TO CONTACT FOR INFORMATION: Judith Ingram, Press Officer, Telephone: (202) 694-1220.

Dayna C. Brown,
Acting Secretary and Clerk of the Commission.

[FR Doc. 2017-02009 Filed 1-26-17; 11:15 am]

BILLING CODE 6715-01-P